FEDERAL RESERVE SYSTEM

Agency Information Collection Activities: Proposed Collection; Comment Request

AGENCY: Board of Governors of the Federal Reserve System

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposal

The following information collection, which is being handled under this delegated authority, has received initial Board approval and is hereby published for comment. At the end of the comment period, the proposed information collection, along with an analysis of comments and recommendations received, will be submitted to the Board for final approval under OMB delegated authority. Comments are invited on the following:

A. Whether the proposed collection of information is necessary for the proper performance of the Federal Reserve's functions; including whether the information has practical utility;

B. the accuracy of the Federal Reserve's estimate of the burden of the proposed information collection, including the validity of the methodology and assumptions used;

C. ways to enhance the quality, utility, and clarity of the information to be collected; and

D. ways to minimize the burden of information collection on respondents, including through the use of automated collection techniques or other forms of information technology.

DATES: Comments must be submitted on or before March 19, 2001.

ADDRESSES: Comments, which should refer to the OMB control number or agency form number, should be addressed to Jennifer J. Johnson, Secretary, Board of Governors of the Federal Reserve System, 20th and C Streets, NW., Washington, DC 20551, or mailed electronically to regs.comments@federalreserve.gov. Comments addressed to Ms. Johnson may be delivered to the Board's mail room between 8:45 a.m. and 5:15 p.m., and to the security control room outside of those hours. Both the mail room and the security control room are accessible from the courtyard entrance on 20th Street between Constitution Avenue and C Street, NW. Comments received may be inspected in room M-P-500 between 9 a.m. and 5 p.m., except as provided in section 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Federal Reserve Board Clearance Officer (202-452-3829), Division of Research and Statistics, Board of Governors of the Federal Reserve System, Washington, DC 20551. Telecommunications Device for the Deaf (TDD) users may contact Diane Jenkins (202-452-3544), Board of Governors of the Federal Reserve System, Washington, DC 20551.

Proposal to Approve Under OMB Delegated Authority the Implementation of the Following Survey:

1. Report Title: Central Bank Survey of Foreign Exchange and Derivatives Market Activity.

Agency Form Number: FR 3036.

OMB Control Number: 7100-0285.

Frequency: one-time.

Reporters: Financial institutions that serve as intermediaries in the wholesale foreign exchange and derivatives market, dealers, and brokers.

Annual Reporting Hours: 9,458 hours.

Estimated Average Hours Per Response: Turnover survey: 50 hours; outstandings survey: 15 hours for FR 2436 reporters, 60 hours for non-FR 2436 reporters.

Number of Respondents: 161. Small businesses are not affected.

General Description of Report: This information collection is voluntary (12 U.S.C. 248(a), 353-359, and 461) and is given confidential treatment (5 U.S.C. 552(b)(4)).

Abstract: The survey is the latest in an ongoing series of surveys conducted by central banks every three years. The survey will be conducted in April and June of 2001 by the Federal Reserve Bank of New York. Data from the survey will provide information about the size and structure of the global markets for foreign exchange and financial derivatives transactions. The survey is part of a data collection effort conducted by over fifty other central banks and monetary authorities. The data will be useful to the Federal Reserve Board, other government agencies, and market participants for determining public policy relating to financial markets. Aggregate results from each central bank's survey will be provided to the Bank for International Settlements for the production of global market statistics.

Board of Governors of the Federal Reserve System, January 11, 2001.
Jennifer J. Johnson,
Secretary of the Board.

[FR Doc. 01-1437 Filed 1-17-01; 8:45 am]

BILLING CODE 6210-01-P